DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of seven individuals and five entities whose property and interests in property have been blocked pursuant to the Foreign Narcotics Kingpin Designation Act (“Kingpin Act”).

DATES: The designation by the Director of OFAC of the seven individuals and five entities identified in this notice pursuant to section 805(b) of the Kingpin Act is effective on September 19, 2013.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act (21 U.S.C. 1901-1908, 8 U.S.C. 1182) became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 19, 2013, the Director of OFAC designated the following seven individuals and five entities whose property and interests in property are blocked pursuant to section 805(b) of the Kingpin Act.

Individuals

1. LIRA JIRON, Bismarck Antonio (a.k.a. JIRON LIRA, Bismarck Antonio), Residencial Altos de Santo Domingo, Las Cuatro Esquinas, Managua, Nicaragua; 1 Cine Leon, 3 Cuadras al Norte 1/2 Cuadra al Oeste, Monsenor Lezcano, Managua, Nicaragua; Achuapa, Leon, Nicaragua; Petronic El Carmen, 7 C al Oeste y 2 1/2 C al Sur, Barrio Williams Fonseca, Esteli, Nicaragua; DOB 27 Apr 1973; POB Esteli, Nicaragua; Cedula No. 288-270473-0002Y (Nicaragua) (individual) [SDNTK].

2. MARADIAGA LOPEZ, Esperanza Caridad, San Pedro Sula, Cortes, Honduras; DOB 30 Sep 1950; POB San Esteban, Olancho, Honduras; Numero de Identidad 1517-1950-00095 (Honduras) (individual) [SDNTK].

3. RIVERA CARDONA, Santos Isidro, Tocoa, Colon, Honduras; DOB 15 May 1949; POB Tocoa, Colon, Honduras; Numero de Identidad 0209-1949-00019 (Honduras) (individual) [SDNTK].

4. RIVERA MARADIAGA, Javier Eriberto (a.k.a. “CACHIRO, Javier”; a.k.a. “EL CACHIRO”; a.k.a. “RIVERA, Javier”), Barrio La Ceiba, Calle Principal, Casa 234, Tocoa, Colon, Honduras; DOB 20 Apr 1972; POB Tocoa, Colon, Honduras; Numero de Identidad 0209-1972-00282 (Honduras) (individual) [SDNTK].

5. RIVERA MARADIAGA, Devis Leonel (a.k.a. “CACHIRO, Lionel”; a.k.a. “EL CACHIRO”; a.k.a. “RIVERA, Leonel”), Barrio La Ceiba, Calle Principal, Tocoa, Colon, Honduras; DOB 28 Mar 1977; POB Tocoa, Colon, Honduras; Numero de Identidad 0209-1977-00375 (Honduras) (individual) [SDNTK].

6. RIVERA MARADIAGA, Santos Isidro (a.k.a. RIVERA MARADIAGA, Isidro; a.k.a. “CACHIROS”), Barrio Municipal, Colonia El Country, Bloque 1, Casa N-6, San Pedro Sula, Cortes, Honduras; San Manuel, Cortes, Honduras; DOB 05 Jun 1985; POB Tocoa, Colon, Honduras; Numero de Identidad 0209-1985-02347 (Honduras) (individual) [SDNTK].

7. RIVERA MARADIAGA, Maira Lizeth (a.k.a. RIVERA, Mayra), Tocoa, Colon, Honduras; DOB 17 Dec 1975; alt. DOB 17 Dec 1976; POB Tocoa, Colon, Honduras; Numero de Identidad 0209-1976-00026 (Honduras) (individual) [SDNTK].

Entities

8. GANADEROS AGRICULTORES DEL NORTE, S. DE R.L. DE C.V. (a.k.a. “GAN”), Bo Las Flores, Frente al Salon Latino, No. 15, Tocoa, Colon, Honduras; 6 St 11 Ave, Morazan Boulevard, San Pedro Sula, Cortes, Honduras; Montanuela, Choloma, Cortes, Honduras; 6 Calle, El Barrio Morazan, San Pedro Sula, Cortes, Honduras; RTN 05019005483678 (Honduras) [SDNTK].

9. INMOBILIARIA RIVERA MARADIAGA, S.A. DE C.V. (a.k.a. INRIMAR), Florencia Norte, Plaza America, Av Roble 201, Distrito Central, Francisco Morazan, Honduras; Barrio Los Laureles, Carretera Panamericana Norte contiguo a DIPPSA, Tocoa, Colon, Honduras; Barrio El Centro, Tocoa, Colon, Honduras; RTN 08019009234360 (Honduras) [SDNTK].

10. INVERSIONES TURISTICAS JOYA GRANDE, S.A. DE C.V. (a.k.a. JOYA GRANDE; a.k.a. JOYA GRANDE ZOOLOGICO Y ECOPARQUE; a.k.a. ZOO JOYA GRANDE; a.k.a. ZOOLOGICO JOYA GRANDE; a.k.a. ZOOLOGICO Y ECO-PARQUE JOYA GRANDE), Colonia Moderna, San Pedro Sula, Cortes, Honduras; Km. 9 despues de Santa Cruz de Yojoa, San Pedro Sula, Cortes, Honduras; RTN 08019011356332 (Honduras) [SDNTK].

11. MINERA MI ESPERANZA, S.A., Honduras; Col. Las Hadas, Cont. a Aldeas S.O.S., No. 7501, Distrito Central, Francisco Morazan, Honduras; RTN 08019011419066 (Honduras) [SDNTK].

12. PALMA DEL BAJO AGUAN, S.A. (a.k.a. PALBASA; a.k.a. PALMAS DEL BAJO AGUAN; a.k.a. “PALMEROS DEL BAJO AGUAN”), Tocoa, Colon, Honduras; El Centro Principal, 1 Ave 2 Cll, No. 13, Tocoa, Colon, Honduras; Chacalpa, Bajo Aguan, Colon, Honduras; RTN 05019007109210 (Honduras) [SDNTK].

Dated: September 19, 2013.
John E. Smith,
Acting Director, Office of Foreign Assets Control.

[FR Doc. 2013-23591 Filed 9-26-13; 8:45 am]

BILLING CODE 4810-AL-P